AFRICAN DEVELOPMENT FOUNDATION

Board of Directors Meeting

Time: Tuesday, April 19, 2005—9 a.m.-3 p.m.

Place: The African Development Foundation, Conference Room, 1400 I Street, NW., Washington, DC 20005.

Date: April 19, 2005.

Status:

Open Session

Tuesday, 9 a.m. to 1 p.m.

Closed Executive Session

Tuesday, 1 p.m. to 3 p.m.

Agenda

Tuesday, April 19, 2005

9 a.m.—Chairman's Report

10 a.m.—President's Report

1 p.m.—Executive Session

3 p.m.—Adjournment for day

If you have any questions or comments, please direct them to Doris Martin, General Counsel, who may be reached at (202) 673-3916.

Nathaniel Fields,
President.

[FR Doc. 05-7652 Filed 4-13-05; 8:45 am]

BILLING CODE 6116-01-P